DEPARTMENT OF DEFENSE

Office of the Secretary

[Transmittal No. 24-99]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-99, Policy Justification, and Sensitivity of Technology.

Dated: January 9, 2026.
Stephanie J. Bost,
Alternate OSD Federal Register Liaison Officer, Department of Defense.

BILLING CODE 6001-FR-P

BILLING CODE 6001-FR-C

Transmittal No. 24-99

Notice of Proposed Issuance of Letter of Offer Pursuant to Section 36(b)(1) of the Arms Export Control Act, as amended

(i) Prospective Purchaser: Republic of Korea

(ii) Total Estimated Value:

Major Defense Equipment * | $2.75 billion
Other | $2.17 billion
TOTAL | $4.92 billion

(iii) Description and Quantity or Quantities of Articles or Services under Consideration for Purchase:

Major Defense Equipment (MDE):

Four (4) E-7 Airborne Early Warning & Control (AEW&C) aircraft

Ten (10) CFM56 jet engines (8 installed, 2 spares)

Seven (7) Guardian Laser Transmitter Assemblies (GLTA) (4 installed, 3 spares)

Eight (8) AN/AAQ 24(V)N Large Aircraft Infrared Countermeasures (LAIRCM) System Processor Replacements (LSPR) (4 installed, 4 spares)

Ten (10) Embedded Global Positioning System/Inertial Navigation System (GPS/INS) (EGI) with Selective Availability Anti-Spoofing Module (SAASM)—or M-Code receiver (8 installed, 2 spares)

Six (6) Multifunctional Information Distribution System Joint Tactical Radio Systems (MIDS JTRS) (4 installed, 2 spares)

Non-Major Defense Equipment:

The following non-MDE items will also be included: AN/ARC-210 radios; digital radar warning receivers; AN/ALE-47 electronic countermeasure dispensers; LAIRCM control interface units; missile warning sensors; AN/APX- 119 identification friend or foe (IFF) transponders; KY100M narrowband/wideband terminals; KIV-77 Mode ⅘ IFF cryptographic appliqué; AN/PYQ-10 Simple Key Loaders; KG-175 Link encryptors; communications security (COMSEC) cables and other COMSEC devices and equipment; communications equipment; precision navigation; Computer Program Identification Numbers (CPINS); user data module cards; testing and test equipment; major and minor modifications and maintenance support; aircraft components, parts, and accessories; training aids and devices, and spare parts; instruments and lab equipment; spare parts, consumables and accessories, and repair and return support; classified and unclassified software delivery and support; classified and unclassified publications and technical documentation; personnel training and training equipment; aircraft ferry and transportation support; studies and surveys; U.S. Government and contractor engineering technical, and logistics support services; and other related elements of logistics and program support.

(iv) Military Department: Air Force (KS-D-SAG)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: November 4, 2024

* as defined in Section 47(6) of the Arms Export Control Act

POLICY JUSTIFICATION

Republic of Korea—E-7 Airborne Early Warning & Control Aircraft

The Republic of Korea (ROK) has requested to buy four (4) E-7 Airborne Early Warning & Control (AEW&C) aircraft; ten (10) CFM56 jet engines (8 installed, 2 spares); seven (7) Guardian Laser Transmitter Assemblies (GLTA) (4 installed, 3 spares); eight (8) AN/AAR-57 AN/AAQ 24(V)N Large Aircraft Infrared Countermeasures (LAIRCM) System Processor Replacements (LSPR) (4 installed, 4 spares); ten (10) Embedded Global Positioning System/Inertial Navigation System (GPS/INS) (EGI) with Selective Availability Anti-Spoofing Module (SAASM)—or M-Code receiver (8 installed, 2 spares); and six (6) Multifunctional Information Distribution System Joint Tactical Radio Systems with Tactical Targeting Network Technology (MIDS JTRS TTNT) (4 installed, 2 spares). The following non-MDE items will also be included: AN/ARC-210 radios; digital radar warning receivers; AN/ALE-47 electronic countermeasure dispensers; LAIRCM control interface units; missile warning sensors; AN/APX-119 identification friend or foe (IFF) transponders; KY100M narrowband/wideband terminals; KIV-77 Mode ⅘ IFF cryptographic appliqué; AN/PYQ-10 Simple Key Loaders; KG-175 Link encryptors; communications security (COMSEC) cables and other COMSEC devices and equipment; communications equipment; precision navigation; Computer Program Identification Numbers (CPINS); user data module cards; testing and test equipment; major and minor modifications and maintenance support; aircraft components, parts, and accessories; training aids and devices, and spare parts; instruments and lab equipment; spare parts, consumables and accessories, and repair and return support; classified and unclassified software delivery and support; classified and unclassified publications and technical documentation; personnel training and training equipment; aircraft ferry and transportation support; studies and surveys; United States (U.S.) Government and contractor engineering, technical, and logistics support services; and other related elements of logistics and program support. The estimated total cost is $4.92 billion.

This proposed sale will support the foreign policy goals and national security objectives of the U.S. by improving the security of a major ally that is a force for political stability and economic progress in the Indo-Pacific region.

This proposed sale will improve the Republic of Korea's ability to meet current and future threats by providing increased intelligence, surveillance, and reconnaissance (ISR) and airborne early warning and control capabilities. It will also increase the ROK Air Force's command, control, communications, computers, intelligence, surveillance, and reconnaissance (C4ISR) interoperability with the U.S. Korea will have no difficulty absorbing this equipment and support into its armed forces.

The proposed sale of this equipment and support will not alter the basic military balance in the region.

The principal contractor will be The Boeing Company, located in Renton, WA. There are no known offset agreements proposed in connection with this potential sale. Implementation of this proposed sale will not require the assignment of any additional U.S. Government or contractor representatives to the Republic of Korea.

There will be no adverse impact on U.S. defense readiness as a result of this proposed sale.

Transmittal No. 24-99

Notice of Proposed Issuance of Letter of Offer Pursuant to Section 36(b)(1) of the Arms Export Control Act

Annex

Item No. vii

(vii) Sensitivity of Technology:

1. The E-7A Airborne Early Warning & Control (AEW&C) aircraft provides advanced airborne moving target indication and battle management, command and control capabilities, and advanced multi-role electronically scanned array radar that enhances airborne battle management and enables long-range kill chains.

2. The AN/AAQ-24(V)N Large Aircraft Infrared Countermeasures (LAIRCM) system is a self- contained, directed-energy countermeasures system designed to protect aircraft from infrared- guided surface-to-air missiles. The LAIRCM system features digital technology micro-miniature solid-state electronics. The system operates in all conditions, detecting incoming missiles and jamming infrared-seeker equipped missiles with aimed bursts of laser energy. The LAIRCM system consists of multiple infrared missile warning sensors, the Guardian Laser Transmitter Assembly (GLTA), a LAIRCM System Processor Replacement (LSPR), a Control Interface Unit Replacement (CIUR), and a classified memory card user data module (UDM).

a. LAIRCM's IR missile warning sensors detect and declare threat missiles. The sensors are mounted on the aircraft exterior to provide omni-directional protection. The sensors detect missile rocket plumes and send appropriate data signals to the LSPR.

b. The Guardian Laser Transmitter Assembly (GLTA) is a laser transmitter subsystem designed to track the inbound threat missile and point the laser jam source at the missile's seeker. The GLTA automatically deploys the laser countermeasure.

c. The LSPR analyzes the data from each missile warning sensor and automatically deploys appropriate countermeasures via the GLTA. The LSPR contains built-in-test (BIT) circuitry.

d. The CIUR displays the incoming threat for the pilot to take appropriate action. The CIUR also provides an interface to program the LAIRCM system to initiate BIT, display system status, and provide the crew with bearing to threat missile launch.

e. The UDM card contains the laser jam codes. It is loaded into the LSPR prior to flight; when not in use, the classified memory card user data module is removed from the LSPR and put in secure storage.

3. The Embedded Global Positioning System/Inertial Navigation System (GPS/INS) (EGI) with Selective Availability Anti-Spoofing Module (SAASM)—or M-Code receiver when available and Precise Positioning Service (PPS) is a self-contained navigation system that provides the following: acceleration, velocity, position, attitude, platform azimuth, magnetic and true heading, altitude, body angular rates, time tags, and coordinated universal time (UTC) synchronized time. SAASM or M-Code enables the GPS receiver access to the encrypted P (Y or M) signal, providing protection against active spoofing attacks.

4. The Multifunctional Information Distribution System Joint Tactical Radio System (MIDS JTRS) provides an advanced Link-16 command, control, communications, and intelligence (C3I) system incorporating high-capacity and jam-resistant digital communications links for exchange of near real-time tactical information, including both data and voice, among air, ground, and sea elements.

5. The KIV-77 is a cryptographic appliqué for identification friend or foe (IFF). It can be loaded with Mode 5 classified elements.

6. The KY-100M is a cryptographic modernized lightweight terminal for secure voice and data communications. The KY-100M provides wideband and narrowband half-duplex communication. Operating in tactical ground, marine and airborne applications, the KY-100M enables secure communication with a broad range of radio and satellite equipment.

7. The AN/PYQ-10 Simple Key Loader is a portable, hand-held device used for securely receiving, storing, and transferring data between compatible cryptographic and communications equipment.

8. The AN/APX-119 is an IFF transponder that provides military aircraft with a secure combat identification capability to help reduce fratricide and enhance battlespace awareness, while providing safe access to civilian airspace.

9. The AN/ARC-210 is a voice communications radio system equipped with HAVEQUICK II, which employ cryptographic technology. Other waveforms may be included as needed.

10. The highest level of classification of defense articles, components, and services included in this potential sale is SECRET.

11. If a technologically advanced adversary were to obtain knowledge of the specific hardware and software elements, the information could be used to develop countermeasures that might reduce weapon system effectiveness or be used in the development of a system with similar or advanced capabilities.

12. A determination has been made that the Republic of Korea can provide substantially the same degree of protection for the sensitive technology being released as the U.S. Government. This sale is necessary in furtherance of the U.S. foreign policy and national security objectives outlined in the Policy Justification.

13. All defense articles and services listed in this transmittal have been authorized for release and export to the Republic of Korea.

[FR Doc. 2026-00526 Filed 1-13-26; 8:45 am]

BILLING CODE 6001-FR-P